ENVIRONMENTAL PROTECTION AGENCY

[ER-FRL-9056-5]

Environmental Impact Statements; Notice of Availability

Responsible Agency: Office of Federal Activities, General Information 202-564-5632 or https://www.epa.gov/nepa.

Weekly receipt of Environmental Impact Statements (EIS)

Filed May 3, 2021 10 a.m. EST Through May 10, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210050, Draft, NOAA, FL, Draft Amendment 53 to the Fishery Management Plan for the Reef Fish Fishery in the Gulf of Mexico, Comment Period Ends: 06/28/2021, Contact: Peter Hood 727-551-5728.

EIS No. 20210051, Draft, USN, CA, Navy Old Town Campus Revitalization, Comment Period Ends: 07/13/2021, Contact: Ron Bochenek 619-705-5560.

EIS No. 20210052, Draft, NMFS, PRO, Programmatic Environmental Impact Statement for the Marine Mammal Health and Stranding Response Program, Comment Period Ends: 06/28/2021, Contact: Stephen Manley 301-427-8476.

Amended Notice

EIS No. 20210041, Draft Supplement, CHSRA, CA, California High-Speed Rail San Jose to Merced Project Section Revised Draft Environmental Impact Report/Supplemental Draft Environmental Impact Statement, Comment Period Ends: 06/09/2021, Contact: Scott Rothenberg 916-403-6936. Revision to FR Notice Published 4/23/2021; Correction to Comment Period Due Date from June 7, 2021 to June 9, 2021.

Dated: May 10, 2021.
Cindy S. Barger,
Director, NEPA Compliance Division, Office of Federal Activities.

[FR Doc. 2021-10225 Filed 5-13-21; 8:45 am]

BILLING CODE 6560-50-P